DEPARTMENT OF THE INTERIOR

Office of the Secretary

[DOI-2020-0005; 20XD4523WC DS68647000 DWCHF0000.000000 DQ.FPPJB.20000000]

Privacy Act of 1974; System of Records

AGENCY: Office of the Secretary, Interior.

ACTION: Rescindment of a system of records notice.

SUMMARY: In accordance with the Privacy Act of 1974, the Department of the Interior (DOI) is giving notice of its intent to rescind the Privacy Act system of records, “Interior, National Business Center Datamart, DOI-84,” from its existing inventory. During a review of DOI system of records notices, it was determined that this system of records notice is no longer necessary as the records in the system are covered under the INTERIOR/DOI-85, Payroll, Attendance, Retirement, and Leave Records, system of records notice. This rescindment will promote the overall streamlining and management of DOI Privacy Act systems of records.

DATES: These changes take effect on September 8, 2021.

ADDRESSES: You may submit comments identified by docket number [DOI-2020-0005] by any of the following methods:

• Federal eRulemaking Portal: http://www.regulations.gov. Follow the instructions for sending comments.

• Email: DOI_Privacy@ios.doi.gov. Include docket number [DOI-2020-0005] in the subject line of the message.

• U.S. mail or hand-delivery: Teri Barnett, Departmental Privacy Officer, U.S. Department of the Interior, 1849 C Street NW, Room 7112, Washington, DC 20240.

Instructions: All submissions received must include the agency name and docket number [DOI-2020-0005]. All comments received will be posted without change to http://www.regulations.gov, including any personal information provided.

Docket: For access to the docket to read background documents or comments received, go to http://www.regulations.gov.

You should be aware that your entire comment including your personally identifiable information, such as your address, phone number, email address, or any other personal information in your comment, may be made publicly available at any time. While you may request to withhold your personally identifiable information from public review, we cannot guarantee we will be able to do so.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION: Pursuant to the provisions of the Privacy Act of 1974, as amended, 5 U.S.C. 552a, DOI is rescinding the DOI-84, National Business Center Datamart, system of records notice from its inventory because it is no longer needed as the records are covered under INTERIOR/DOI-85, Payroll, Attendance, Retirement, and Leave Records, 83 FR 34156 (July 19, 2018). The National Business Center Datamart system provided a data repository with capability to query data and produce reports in support of fiscal and payroll processing from two Privacy Act systems, INTERIOR/DOI-85, Payroll, Attendance, Retirement, and Leave Records, and INTERIOR/DOI-90, Federal Financial System, 64 FR 46930 (August 27, 1999).

The Federal Financial System has been retired and is no longer used to process or maintain financial information. DOI is publishing a rescindment notice for the INTERIOR/DOI-90, Federal Financial System, system notice elsewhere in the Federal Register. Since the Federal Financial System is retired and Datamart no longer processes financial data from that system, DOI has determined that the DOI-84, National Business Center Datamart, system of records notice is no longer necessary as it does not identify any additional categories of individuals, categories of records, or routine uses for personnel payroll processing records beyond those included in the current INTERIOR/DOI-85, Payroll, Attendance, Retirement, and Leave Records, system of records notice. This rescindment will eliminate an unnecessary duplicate notice and is in accordance with the Privacy Act of 1974 and the Office of Management and Budget Circular A-108, Federal Agency Responsibilities for Review, Reporting, and Publication under the Privacy Act.

Rescinding the DOI-84, National Business Center Datamart, system of records notice will have no adverse impacts on individuals as the personnel payroll records are covered under the current INTERIOR/DOI-85, Payroll, Attendance, Retirement, and Leave Records, system of records notice. This rescindment will also promote the overall streamlining and management of DOI Privacy Act systems of records.

SYSTEM NAME AND NUMBER:

Interior, National Business Center Datamart, DOI-84.

HISTORY:

73 FR 74506 (December 8, 2008).

Teri Barnett,
Departmental Privacy Officer, Department of the Interior.

[FR Doc. 2021-19285 Filed 9-7-21; 8:45 am]

BILLING CODE 4334-63-P